DEPARTMENT OF DEFENSE

Defense Acquisition Regulations System

48 CFR Parts 225 and 252

RIN 0750-AF48

Defense Federal Acquisition Regulation Supplement; PAN Carbon Fiber—Deletion of Obsolete Restriction (DFARS Case 2006-D033)

AGENCY: Defense Acquisition Regulations System, Department of Defense, (DoD).

ACTION: Final rule.

SUMMARY: DoD has issued a final rule amending the Defense Federal Acquisition Regulation Supplement (DFARS) to remove obsolete text relating to a restriction on the acquisition of polyacrylonitrile (PAN) carbon fiber from foreign sources. The restriction expired on May 31, 2006.

EFFECTIVE DATE: October 26, 2006.

FOR FURTHER INFORMATION CONTACT: Ms. Amy Williams, Defense Acquisition Regulations System, OUSD (AT&L) DPAP (DARS), IMD 3C132, 3062 Defense Pentagon, Washington, DC 20301-3062. Telephone (703) 602-0328; facsimile (703) 602-0350. Please cite DFARS Case 2006-D033.

SUPPLEMENTARY INFORMATION:

A. Background

DFARS 225.7103 and the corresponding contract clause at 252.225-7022 restricted the acquisition of PAN carbon fiber from foreign sources. As specified in DFARS 225.7103-1 and 225.7103-3, the period for applicability of the restriction ended on May 31, 2006. Therefore, this final rule removes the DFARS text that has become obsolete.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subparts in accordance with 5 U.S.C. 610. Such comments should cite DFARS Case 2006-D033.

C. Paperwork Reduction Act

The Paperwork Reduction Act does not apply, because the rule does not impose any information collection requirements that require the approval of the Office of Management and Budget under 44 U.S.C. 3501, et seq.

List of Subjects in 48 CFR Parts 225 and 252

Government procurement.

Michele P. Peterson,
Editor, Defense Acquisition Regulations System.

Therefore, 48 CFR parts 225 and 252 are amended as follows:

1. The authority citation for 48 CFR parts 225 and 252 continues to read as follows:

Authority: 41 U.S.C. 421 and 48 CFR Chapter 1.

PART 225—FOREIGN ACQUISITION

225.7103 through 225.7103-3 [Removed]

2. Sections 225.7103 through 225.7103-3 are removed.

PART 252—SOLICITATION PROVISIONS AND CONTRACT CLAUSES

252.225-7022 [Removed and Reserved]

3. Section 252.225-7022 is removed and reserved.

[FR Doc. E6-17955 Filed 10-25-06; 8:45 am]

BILLING CODE 5001-08-P